DEPARTMENT OF HEALTH AND HUMAN SERVICES

Administration for Children and Families

Proposed Information Collection Activity; Comment Request

Proposed Projects

Title: National Survey of Child and Adolescent Well-Being.

OMB No.: 0970-0202.

Description: This longitudinal survey provides national estimates on the characteristics related to children and families who enter the child welfare system. It has collected data from a cohort of 6100 children who entered the child welfare system as a result of a CPS investigation between October, 1999 and April, 2001. Data were collected from the children themselves, their caregivers, their teachers, and their caseworkers at baseline, with followups at 12 and 18 months post-baseline. The current request is to pursue a 36-month followup, essentially replicating the measures that were used at baseline and at the 18-month followup.

Respondents: Children who are clients of the child welfare system, their primary caregivers, caseworkers, and teachers.

Annual Burden Estimates
Instrument | Number of respondents | Number of responses per respondent | Average burden hours per response | Total burden hours
Child interview | 5491 | 1 | 1.63 | 8950
Caregiver interview | 5491 | 1 | 1.50 | 8237
Caseworker interview | 2366 | 1 | .80 | 1893
Caseworker interview | 2491 | 1 | .75 | 1868

Estimated Total Annual Burden Hours: 20948.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 9, 2002.
Bob Sargis,
Reports Clearance, Officer.

[FR Doc. 02-12318 Filed 5-16-02; 8:45 am]

BILLING CODE 4184-01-M